DEPARTMENT OF COMMERCE

International Trade Administration

[Docket No.: 180719677-8677-01]

Call for Applications for the International Buyer Program Quarters 2 and 3 Calendar Year 2019

AGENCY: Industry and Analysis, International Trade Administration, Department of Commerce.

ACTION: Notice and call for applications.

SUMMARY: In this notice, the U.S. Department of Commerce (DOC) International Trade Administration (ITA) announces that it will accept applications for the International Buyer Program (IBP) for quarters 2 and 3 of calendar year 2019 (April 1, 2019, through September 30, 2019). The IBP is currently undergoing a program review that may result in new ITA products and services for trade shows and it will take ITA some time to implement the recommended changes. Therefore, IBP is only moving forward with the current program until September 30, 2019. Should the program review result in new ITA products and services for trade shows, they will be announced separately in the Federal Register. This announcement also sets out the objectives, procedures and application review criteria for the IBP. The purpose of the IBP is to bring international buyers together with U.S. firms in industries with high export potential at leading U.S. trade shows. Specifically, through the IBP, the ITA selects domestic trade shows which will receive ITA services in the form of global promotion in foreign markets, recruitment of foreign buyers, and provision of export counseling to exhibitors at the trade show. This notice covers selection for IBP participation during quarters 2 and 3 of calendar year 2019.

DATES: Applications for the IBP for quarters 2 and 3 of calendar year 2019 must be received by October 5, 2018.

ADDRESSES: The application form can be found at www.export.gov/ibp. Applications may be submitted by any of the following methods: (1) Mail/Hand (including express) Delivery Service: International Buyer Program, Trade Promotion Programs, International Trade Administration, U.S. Department of Commerce, 1401 Constitution Ave. NW, Mailstop 52024, Washington, DC 20230; or (2) email: IBP2019@trade.gov. Email applications will be accepted as interim applications, but must be followed by a signed original application that is received by the program no later than five (5) business days after the application deadline. To ensure that applications are received by the deadline, applicants are strongly urged to send applications by express delivery service (e.g., U.S. Postal Service Express Delivery, Federal Express, UPS, etc.).

FOR FURTHER INFORMATION CONTACT: Vidya Desai, Senior Advisor for Trade Events, Trade Promotion Programs, International Trade Administration, U.S. Department of Commerce, 1401 Constitution Ave. NW, Washington, DC 20230; Telephone (202) 482-2311; Email: IBP2019@trade.gov.

SUPPLEMENTARY INFORMATION: The IBP was established in the Omnibus Trade and Competitiveness Act of 1988 (Pub. L. 100-418, title II, § 2304, codified at 15 U.S.C. 4724) to bring international buyers together with U.S. firms by promoting leading U.S. trade shows in industries with high export potential. The IBP emphasizes cooperation between the DOC and trade show organizers to benefit U.S. firms exhibiting at selected shows and provides practical, hands-on assistance such as export counseling and market analysis to U.S. companies interested in exporting. Shows selected for the IBP will provide a venue for U.S. companies interested in expanding their sales into international markets.

Through the IBP, ITA selects U.S. trade shows, with participation by U.S. firms interested in exporting, that ITA determines to be leading international trade shows, for promotion in overseas markets by U.S. Embassies and Consulates. The DOC is authorized to provide successful applicants with services in the form of overseas promotion of the show; outreach to show participants about exporting; recruitment of potential buyers to attend the events; and staff assistance in setting up international trade centers at the shows. Worldwide promotion is executed through ITA offices at U.S. Embassies and Consulates in more than 70 countries representing the United States' major trading partners, and also in Embassies in countries where ITA does not maintain offices.

ITA is accepting applications from trade show organizers for the IBP for trade shows taking place between April 1, 2019, and September 30, 2019. Selection of a trade show is valid for one show, i.e., a trade show organizer seeking selection for a recurring show must submit a new application for selection for each occurrence of the show. For shows that occur more than once in a calendar year, the trade show organizer must submit a separate application for each show.

For the IBP in quarters 2 and 3 of calendar year 2019, the ITA expects to select approximately 8 shows from among the applicants. The ITA will select those shows that are determined to most clearly meet the statutory mandate in 15 U.S.C. 4721 to promote U.S. exports, especially those of small- and medium-sized enterprises, and the selection criteria articulated below.

There is no fee required to submit an application. If accepted into the program for quarter 2 or 3 of calendar year 2019, a participation fee of $9,800 is required for shows of five days or fewer. For trade shows more than five days in duration, or requiring more than one International Trade Center, a participation fee of $15,000 is required. For trade shows ten days or more in duration, and/or requiring more than two International Trade Centers, the participation fee will be determined by DOC and stated in the written notification of acceptance calculated on a full cost recovery basis. Successful applicants will be required to enter into a Memorandum of Agreement (MOA) with ITA within 10 days of written notification of acceptance into the program. The participation fee (by check or credit card) is due within 30 days of written notification of acceptance into the program.

The MOA constitutes an agreement between ITA and the show organizer specifying which responsibilities for international promotion and export assistance services at the trade shows are to be undertaken by ITA as part of the IBP and, in turn, which responsibilities are to be undertaken by the show organizer. Anyone requesting application information will be sent a sample copy of the MOA along with the application and a copy of this Federal Register Notice. Applicants are encouraged to review the MOA closely as IBP participants are required to comply with all terms, conditions, and obligations in the MOA. Trade show organizer obligations include, but are not limited to, providing waived or reduced admission fees for international attendees who are participating in the IBP, the construction of an International Trade Center at the trade show, production of an export interest directory, and provision of complimentary hotel accommodations for DOC staff as explained in the MOA. Some of the most important commitments for the trade show organizer are to: include in the terms and conditions of its exhibitor contracts provisions for the protection of intellectual property rights (IPR); to have procedures in place at the trade show to address IPR infringement which, at a minimum, provide information to help U.S. exhibitors procure legal representation during the trade show; and to agree to assist the DOC to reach and educate U.S. exhibitors on the Strategy Targeting Organized Piracy (STOP!), IPR protection measures available during the show, and the means to protect IPR in overseas markets, as well as in the United States. ITA responsibilities include, but are not limited to, the worldwide promotion of the trade show and, where feasible, recruitment of international buyers to that show, provision of on-site export assistance to U.S. exhibitors at the show, and the reporting of results to the show organizer.

Selection as an IBP partner does not constitute a guarantee by DOC of the show's success. IBP selection is not an endorsement of the show except as to its international buyer activities. Non-selection of an applicant for the IBP should not be viewed as a determination that the show will not be successful in promoting U.S. exports.

Eligibility: All 2019 U.S. trade shows taking place between April 1, 2019, and September 30, 2019, are eligible to apply for IBP participation through the show organizer.

Exclusions: Trade shows that are either first-time or horizontal (non-industry specific) shows generally will not be considered. Trade shows that take place October 1, 2019, through December 31, 2019, will not be considered at this time. IBP has already selected shows for quarter 1 (January 1-March 31) of calendar year 2019.

General Evaluation Criteria: The ITA will evaluate shows for the International Buyer Program using the following criteria:

(a) Export Potential: The trade show promotes products and services from U.S. industries that have high export potential, as determined by DOC sources, including industry analysts' assessment of export potential, ITA best prospects lists and U.S. export statistics.

(b) Level of International Interest: The trade show meets the needs of a significant number of overseas markets and corresponds to marketing opportunities as identified by ITA. Previous international attendance at the show may be used as an indicator of such interest.

(c) Scope of the Show: The show offers a broad spectrum of U.S. made products and services for the subject industry. Trade shows with a majority of U.S. firms as exhibitors will be given priority.

(d) U.S. Content of Show Exhibitors: Trade shows with exhibitors featuring a high percentage of products produced in the United States or products with a high degree of U.S. content will be preferred.

(e) Stature of the Show: The trade show is clearly recognized by the industry it covers as a leading show for the promotion of that industry's products and services both domestically and internationally, and as a showplace for the latest technology or services in that industry.

(f) Level of Exhibitor Interest: U.S. exhibitors have expressed interest in receiving international business visitors during the trade show. A significant number of U.S. exhibitors should be seeking to begin exporting or to expand their sales into additional export markets.

(g) Level of Overseas Marketing: There has been a demonstrated effort by the applicant to market this show and prior related shows. For this criterion, the applicant should describe in detail, among other information, the international marketing program to be conducted for the show, and explain how efforts should increase individual and group international attendance.

(h) Logistics: The trade show site, facilities, transportation services, and availability of accommodations at the site of the exhibition (i.e. International Trade Center, interpreters) are capable of accommodating large numbers of attendees whose native language will not be English.

(i) Level of Cooperation: The applicant demonstrates a willingness to cooperate with the ITA to fulfill the program's goals and adhere to the target dates set out in the MOA and in the show timetables, both of which are available from the program office (see the FOR FURTHER INFORMATION CONTACT section above). Past experience in the IBP will be taken into account in evaluating the applications received.

(j) Delegation Incentives: The IBP Office will be evaluating the level and/or range of incentives offered to delegations and/or delegation leaders recruited by U.S. overseas Embassies and Consulates. Examples of incentives to international visitors and to organized delegations include: Special organized events, such as receptions, meetings with association executives, briefings, and site tours; and complimentary accommodations for delegation leaders (beyond those required in the MOA).

Review Process: ITA will evaluate all applications received based on the criteria set out in this notice. Vetting will focus primarily on the export potential, level of international interest, and stature of the show. In reviewing applications, ITA will also consider scheduling and sector balance in terms of the need to allocate resources to support selected shows.

Application Requirements: Show organizers submitting applications for quarter 2 or 3 of calendar year 2019 IBP are requested to submit: (1) A narrative statement addressing each question in the application, Form OMB 0625-0143 (found at www.export.gov/ibp); (2) a signed statement that “The information submitted in this application is correct and the applicant will abide by the terms set forth in the Call for Applications for the 2019 International Buyer Program (April 1, 2019 through September 30, 2019);” and (3) two copies of the application: one copy of the application printed on company letterhead, and one electronic copy of the application submitted on a CD-RW (preferably in Microsoft Word® format), on or before the deadline noted above. There is no fee required to apply. Applications for the IBP must be received by October 5, 2018. ITA expects to issue the results of its review process in October 2018.

Legal Authority: The statutory program authority for the ITA to conduct the International Buyer Program is 15 U.S.C. 4724. The DOC has the legal authority to enter into MOAs with show organizers under the provisions of the Mutual Educational and Cultural Exchange Act of 1961 (MECEA), as amended (22 U.S.C. 2455(f) and 2458(c)). MECEA allows ITA to accept contributions of funds and services from firms for the purposes of furthering its mission.

The Office of Management and Budget (OMB) has approved the information collection requirements of the application to this program (Form OMB 0625-0143) under the provisions of the Paperwork Reduction Act of 1995 (44 U.S.C. 3501 et seq.) (OMB Control No. 0625-0143). Notwithstanding any other provision of law, no person is required to respond to, nor shall a person be subject to a penalty for failure to comply with, a collection of information subject to the requirements of the Paperwork Reduction Act, unless that collection of information displays a currently valid OMB Control Number.

For further information please contact: Vidya Desai, Senior Advisor for Trade Events, Trade Promotion Programs (IBP2019@trade.gov).

Dustin Ross,
Trade Promotion Programs.

[FR Doc. 2018-18008 Filed 8-20-18; 8:45 am]

BILLING CODE 3510-DR-P